DEPARTMENT OF THE INTERIOR

National Park Service

[NPS-WASO-NER-NPS0034619; PPNEHATUC0, PPMRSCR1Y.CU0000 (222); OMB Control Number 1024-0232]

Agency Information Collection Activities; Submission to the Office of Management and Budget for Review and Approval; National Underground Railroad Network to Freedom Program

AGENCY: National Park Service, Interior.

ACTION: Notice of information collection; request for comment.

SUMMARY: In accordance with the Paperwork Reduction Act of 1995, we, the National Park Service (NPS) are proposing to renew an information collection.

DATES: Interested persons are invited to submit comments on or before March 1, 2023.

ADDRESSES: Written comments and recommendations for the proposed information collection should be sent within 30 days of publication of this notice to www.reginfo.gov/public/do/PRAMain. Find this particular information collection by selecting “Currently under Review—Open for Public Comments” or by using the search function. Please provide a copy of your comments to NPS Information Collection Clearance Officer (ADIR-ICCO), 12201 Sunrise Valley Drive, (MS-242), Reston, VA 20191 (mail); or to phadrea_ponds@nps.gov (email). Please reference OMB Control Number 1024-0232 in the subject line of your comments.

FOR FURTHER INFORMATION CONTACT: To request additional information about this ICR, contact Diane Miller, National Program Manager, National Underground Railroad Network to Freedom Program, National Park Service, Harriet Tubman Underground Railroad Visitor Center, 4068 Golden Hill Road, Church Creek, Maryland 21622; at diane_miller@nps.gov (email); or 410-221-2290, extension 1111 (telephone). Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 16, 2022 (87 FR 8874). We did not receive any comments in response to that Notice.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Underground Railroad Network to Freedom Act of 1998 (54 U.S.C. 308301, et seq.) authorizes the NPS to collect information from applicants requesting to join the Network to Freedom Program (the Network). The NPS uses Form 10- 946, National Underground Railroad Network to Freedom Application, to evaluate potential participants and determine eligibility to become part of the Network. Through the Network, we coordinate preservation and education efforts nationwide and are working to integrate local historical sites, museums, and interpretive programs associated with the Underground Railroad movement.

All entities that apply to join the Network must have a verifiable association with the historic Underground Railroad movement and complete NPS Form 10-946, “National Underground Railroad Network to Freedom Application,” available at https://www.nps.gov/subjects/ugrr/index.htm (website). Respondents must (1) verify associations and characteristics through descriptive texts that are the result of historical research and (2) submit supporting documentation (e.g., copies of rare documents, photographs, and maps).

Network to Freedom Program Partners work with the NPS to help validate the efforts of local and regional organizations, making it easier for them to share their expertise and communicate with us and each other. Prospective partners must submit a letter with the following information:

• Name and address of the agency (company or organization)

• Name, address, and phone, fax, and email information of principal contact

• Abstract not to exceed 200 words describing the partner's activity or mission statement

• Brief description of the entity's association to the Underground Railroad

Title of Collection: National Underground Railroad Network to Freedom Program.

OMB Control Number: 1024-0232.

Form Number: NPS Form 10-946, “National Underground Railroad Network to Freedom Application.”

Type of Review: Extension of a currently approved collection.

Respondents/Affected Public: Individuals; businesses; nonprofit organizations; and Federal, State, tribal, and local governments.

Total Estimated Number of Annual Responses: 42.

Estimated Completion Time per Response: 40 hours.

Total Estimated Number of Annual Burden Hours: 1,601.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-01818 Filed 1-27-23; 8:45 am]

BILLING CODE 4312-52-P